DEPARTMENT OF COMMERCE

Foreign-Trade Zones Board

[Docket 43-2000]

Foreign-Trade Zone 154—Greater Baton Rouge, Louisiana Area; Application for Expansion

An application has been submitted to the Foreign-Trade Zones (FTZ) Board (the Board), by the Greater Baton Rouge Port Commission, grantee of Foreign-Trade Zone 154, requesting authority to expand and reorganize its zone in the Baton Rouge, Louisiana area, within the Baton Rouge Customs port of entry. The application was submitted pursuant to the provisions of the Foreign-Trade Zones Act, as amended (19 U.S.C. 81a-81u), and the regulations of the Board (15 CFR part 400). It was formally filed on July 26, 2000.

FTZ 21 was approved on November 2, 1988 (Board Order 396, 53 FR 48003, 11/29/88). The zone project currently consists of the following sites (2,674 acres) in the Baton Rouge area: Site 1 (16 acres)—within the Port's terminal area, Ernest Wilson Drive, just inside the south city limits of the City of Port Allen; Site 2 (244 acres)—Industriplex Park, East Baton Rouge Parish; Site 3 (580 acres)—Sun Plus Industrial Park, Louisiana Highway 1, Port Allen; and, Site 4 (1,834 acres)—industrial/chemical complex, Louisiana Highway 1, one mile north of the City of Plaquemine, within the Parishes of West Baton Rouge and Iberville.

The application proposes a significant revision of the zone plan for FTZ 154. As proposed, the zone would be expanded and reorganized to enlarge Site 1, to remove all of the existing Site 2, to add a new Site 2 in its place, and to reduce the acreage at Site 3. Site 1 will be expanded from 16 acres to 370 acres to include the port's entire deep-water complex. The existing Site 2 is being deleted in its entirety and it will be replaced by the new Proposed Site 2, which will consist of 1,277 acres at the Baton Rouge Metropolitan Airport (owned by the Greater Baton Rouge Airport District) in north Baton Rouge. Site 3 at the Sun Plus Industrial Park will be reduced from 580 acres to 157 acres. The site has also been renamed the Inland Rivers Marine Terminal FTZ site. Site 4 remains unchanged. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is October 2, 2000. Rebuttal comments in response to material submitted during the foregoing period may be submitted during the subsequent 15-day period (to October 16, 2000).

A copy of the application and accompanying exhibits will be available for public inspection at each of the following locations:

Office of the Port of Greater Baton Rouge, 2425 Ernest Wilson Drive, Port Allen, LA 70767.

Office of the Executive Secretary, Foreign-Trade Zones Board, Room 4008, U.S. Department of Commerce, 14th & Pennsylvania Avenue, NW, Washington, DC 20230.

Dated: July 26, 2000.
Dennis Puccinelli,
Executive Secretary.

[FR Doc. 00-19553 Filed 8-1-00; 8:45 am]

BILLING CODE 3510-DS-P